DEPARTMENT OF LABOR

Occupational Safety and Health Administration

Preparations for December UN Meetings on the Globally Harmonized System of Classification and Labelling of Chemicals (GHS)

AGENCY: Occupational Safety and Health Administration (OSHA), Labor.

ACTION: Notice of public meeting.

SUMMARY: OSHA invites interested parties to participate in an open, informal public meeting to discuss proposals in preparation for the 20th session of the United Nations Subcommittee of Experts on the Globally Harmonized System of Classification and Labelling of Chemicals (UNSCEGHS). The UNSCEGHS meeting will be held December 7-9, 2010, in Geneva, Switzerland. OSHA, along with the U.S. Interagency GHS Coordinating Group, plans to consider the comments and information gathered at this public meeting when developing the U.S Government positions for the UNSCEGHS meeting.

DATES: The date for the public meeting is as follows: November 30, 2010, from 1-3 p.m., in Washington, DC.

ADDRESSES: The location for the public meeting is as follows: The U.S. Department of Labor, Francis Perkins Building, 200 Constitution Avenue, NW., Washington, DC 20210, Room N4437 C & D.

Conference Call Information: Conference call-in capability will be provided for this meeting. To participate by telephone, dial 1-888-946-7303, and enter participant passcode 34137. During the call, please press *6 to mute/unmute your individual lines.

FOR FURTHER INFORMATION CONTACT: Maureen Ruskin, Director, Office of Chemical Hazards-Metals, OSHA Directorate of Standards and Guidance, Room N-3718, U.S. Department of Labor, 200 Constitution Avenue, NW., Washington DC 20210; telephone: (202) 693-1950.

Copies of this Federal Register notice can be obtained as follows: Electronic copies are available at http://www.regulations.gov. This Federal Register notice, as well as other relevant information, is available also on the OSHA Webpage at http://www.osha.gov.

SUPPLEMENTARY INFORMATION:

I. Meeting

OSHA is hosting an open informal public meeting of the U.S. Interagency GHS Coordinating Group to provide interested groups and individuals with an update on GHS-related issues and an opportunity to express their views for consideration in developing U.S. Government positions for the upcoming UNSCEGHS meeting. The public is invited to attend without prior notification.

II. Background

The GHS was formally adopted by the United Nations Committee of Experts on the Transport of Dangerous Goods and on the Globally Harmonized System of Classification and Labelling of Chemicals in December 2002. The GHS is a single, harmonized system for classification of chemicals according to their health, physical, and environmental effects. It also provides harmonized communication elements, including labels and safety data sheets. The GHS is considered to be a living document and is regularly revised and updated as necessary to reflect new technology and scientific developments or to provide additional explanatory text.

The UNSCEGHS is responsible for maintaining and updating the GHS. The U.S has been an active member of the UNSCEGHS for many years, and OSHA currently serves as the head of the U.S delegation for this subcommittee.

In preparation of the bi-annual meetings of the UNSCEGHS, the U.S Interagency GHS Coordinating Group meets to discuss issues related to the GHS and to develop a coordinated U.S position on issues and proposals regarding the GHS. The U.S interagency group consists of U.S agencies that regulate in the area of chemical hazard communication and includes the Consumer Product Safety Commission (CPSC), the Department of Transportation (DOT), the Environmental Protection Agency (EPA), and OSHA.

Information on the work of the UNSCEGHS including meeting agendas, reports, and documents from previous sessions, can be found on the United Nations Economic Commission for Europe (UNECE) Transport Division Web site located at the following web address: http://www.unece.org/trans/danger/danger.htm. The UNSCEGHS bases its decisions on working papers. The working papers for the 20th session of the UNSCEGHS are located at http://www.unece.org/trans/main/dgdb/dgsubc4/c42010.html. Informal papers submitted to the UNSCEGHS provide information for the subcommittee and are used either as a mechanism to provide information to the subcommittee or as the basis for future working papers. Informal papers for the 20th session of the UNSCEGHS are located at http://www.unece.org/trans/main/dgdb/dgsubc4/c4inf20.html.

Authority and Signature

This document was prepared under the direction of David Michaels, PhD, MPH, Assistant Secretary of Labor for Occupational Safety and Health, U.S. Department of Labor, pursuant to sections 4, 6, and 8 of the Occupational Safety and Health Act of 1970 (29 U.S.C. 653, 655, 657), 29 CFR part 1911, and Secretary's Order 4-2010 (75 FR 55355), (Sept. 10, 2010).

Signed at Washington, DC, on November 6, 2010.
David Michaels,
Assistant Secretary of Labor for Occupational Safety and Health.

[FR Doc. 2010-28546 Filed 11-10-10; 8:45 am]

BILLING CODE 4510-26-P